DEPARTMENT OF JUSTICE

Antitrust Division

Notice Pursuant to The National Cooperative Research and Production Act of 1993—Medical CBRN Defense Consortium

Notice is hereby given that, on April 10, 2017, pursuant to Section 6(a) of the National Cooperative Research and Production Act of 1993, 15 U.S.C. 4301 et seq. (“the Act”), Medical CBRN Defense Consortium (“MCDC”) has filed written notifications simultaneously with the Attorney General and the Federal Trade Commission disclosing changes in its membership. The notifications were filed for the purpose of extending the Act's provisions limiting the recovery of antitrust plaintiffs to actual damages under specified circumstances. Specifically, Codagenix, Inc., Great Neck, NY; Fraunhofer USA Center for Molecular Biotechnology, Newark, DE; FUJIFILM Pharmaceuticals USA, Inc., Boston, MA; Ibis Biosciences Inc., an Abbott Company, Carlsbad, CA; Biomeme, Inc., Philadelphia, PA; PPD Development LP, Wilmington, NC; California Institute for Biomedical Research, La Jolla, CA; Leidos, Inc., Reston, VA; Merck Research Laboratories, Whitehouse Station, NJ; Tetracore, Inc., Rockville, MD; Mesa Tech International, San Diego, CA; Synthetic Genomics Vaccines, Inc., La Jolla, CA; Brimrose Technology Corporation, Sparks, MD; Bioo Scientific Corporation, Austin, TX; Click Diagnostics, Inc., San Jose, CA; Pulmotect, Inc., Houston, TX; JYANT Technologies, Inc., Marietta, GA; YourEncore, Inc., Indianapolis, IN; and Texas Biomedical Research Institute, San Antonio, TX, have been added as parties to this venture.

No other changes have been made in either the membership or planned activity of the group research project. Membership in this group research project remains open, and MCDC intends to file additional written notifications disclosing all changes in membership.

On November 13, 2015, MCDC filed its original notification pursuant to Section 6(a) of the Act. The Department of Justice published a notice in the Federal Register pursuant to Section 6(b) of the Act on January 6, 2016 (81 FR 513).

The last notification was filed with the Department on February 3, 2017. A notice was published in the Federal Register pursuant to Section 6(b) of the Act on March 7, 2017 (82 FR 12847).

Patricia A. Brink,
Director of Civil Enforcement, Antitrust Division.

[FR Doc. 2017-08849 Filed 5-1-17; 8:45 am]

BILLING CODE P